FEDERAL COMMUNICATIONS COMMISSION

47 CFR Part 73

[DA 00-1146; MM Docket No. 99-246; RM-9593; RM-9770]

Radio Broadcasting Services; Winslow and Mayer, AZ

AGENCY: Federal Communications Commission.

ACTION: Final rule.

SUMMARY: In response to a proposal filed on behalf of Desert West Air Ranchers Corporation, the Commission reallots Channel 236C from Winslow to Mayer, Arizona (RM-9770), as that community's first local aural transmission service, in lieu of previously proposed Camp Verde, Arizona (RM-9593), and modifies the license for Station KFMR(FM) to specify Mayer as its community of license. See 64 FR 37926, July 14, 1999. Coordinates used for Channel 236C at Mayer, Arizona, are 34-25-00 NL and 112-00-30 WL. With this action, this docketed proceeding is terminated.

DATES: Effective July 10, 2000.

FOR FURTHER INFORMATION CONTACT: Nancy Joyner, Mass Media Bureau, (202) 418-2180.

SUPPLEMENTARY INFORMATION: This is a synopsis of the Commission's Report and Order, MM Docket No. 99-246, adopted May 17, 2000, and released May 26, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Arizona, is amended by adding Mayer, Channel 236C.

3. Section 73.202(b), the Table of FM Allotments under Arizona, is amended by removing Winslow, Channel 236C.

Federal Communications Commission.
John A. Karousos,
Chief, Allocations Branch, Policy and Rules Division, Mass Media Bureau.

[FR Doc. 00-14379 Filed 6-7-00; 8:45 am]

BILLING CODE 6712-01-P